FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 10, 2012.

A. Federal Reserve Bank of Richmond (Adam M. Drimer, Assistant Vice President) 701 East Byrd Street, Richmond, Virginia 23261-4528:

1. U.S. Immigration Investment Center, LLC, Washington, DC, and its managing director, Mahnaz Khazen, Saratoga, California; to acquire voting shares of HarVest Bancorp, Inc., Gaithersburg, Maryland, and thereby indirectly acquire voting shares of HarVest Bank of Maryland, Rockville, Maryland.

B. Federal Reserve Bank of Minneapolis (Jacqueline G. King, Community Affairs Officer) 90 Hennepin Avenue, Minneapolis, Minnesota 55480-0291:

1. Sharon Bauman, Apple Valley, Minnesota; Virginia Bauman, Farmington, Minnesota; and Michael Murray, Irving, Texas, Florence Bauman, and Russell Bauman, both of Kerkhoven, Minnesota, as individuals and members of the Bauman Family Control Group; to acquire and retain voting shares of Kerkhoven Bancshares, Inc., and thereby indirectly acquire and retain voting shares of Financial Security Bank, both in Kerkhoven, Minnesota.

Board of Governors of the Federal Reserve System, March 21, 2012.
Jennifer J. Johnson,
Secretary of the Board.

[FR Doc. 2012-7210 Filed 3-23-12; 8:45 am]

BILLING CODE 6210-01-P